DEPARTMENT OF COMMERCE

National Oceanic and Atmospheric Administration

[I.D. 050206A]

Mid-Atlantic Fishery Management Council (MAFMC); Meetings

AGENCY: National Marine Fisheries Service (NMFS), National Oceanic and Atmospheric Administration (NOAA), Commerce.

ACTION: Notice of public meeting.

SUMMARY: The Mid-Atlantic Fishery Management Council's Ad Hoc Policy Advisory Panel (Panel) will hold public meetings with officials from the NMFS.

DATES: The meetings will be held Wednesday, May 25, 2006, through Thursday, May 26, 2006. See SUPPLEMENTARY INFORMATION for a meeting agenda.

ADDRESSES: This meeting will be held at the Sheraton Society Hill, One Dock Street, Philadelphia, PA 19106, telephone 215-238-6000.

Council address: Mid-Atlantic Fishery Management Council, 300 S. New Street, Dover, DE 19904, telephone 302-674-2331.

FOR FURTHER INFORMATION CONTACT: Daniel T. Furlong, Executive Director, Mid-Atlantic Fishery Management Council; telephone: 302-674-2331, extension 19.

SUPPLEMENTARY INFORMATION:

Wednesday, May 24, 2006

The meeting will begin at 8:30 a.m. with opening remarks from the Panel Chairman and the Director of NMFS. At 8:45 a.m. the National Academy of Sciences' National Research Council's draft report on recreational fisheries survey methods will be discussed regarding: the implications of its conclusions and recommendations; policy considerations when using historical Marine Recreational Fisheries Statistical Survey (MRFSS) data to establish recreational sector share of quota managed fisheries and state-by-state sub-allocations; policy considerations when using current MRFSS data to establish specifications for the coming fishing year; and, the practicability and significance of applying of National Standard 2 criteria to MRFSS data. At 10 a.m. the Government Accountability Office's (GAO) report “Core Principles and a Strategic Approach Would Enhance Stakeholder Participation in Developing Quota-Based Programs” will be reviewed and discussed. At 10:45 a.m. the National Fish Habitat Initiative will be discussed and evaluated in terms of addressing opportunities to build partnerships with non-government organizations (NGO). At 11:15 a.m. various Congressional Legislative proposals to reauthorize the Magnuson-Stevens Act will be presented and discussed including an assessment as to the likelihood and timing of their passage.

Following lunch, a discussion of sociological resources for fishery management will begin at 1:30 p.m. Identification and descriptions of sociological needs in the Fishery Management Plan (FMP) process will be reviewed, together with an assessment of Council and NMFS capabilities to meet MSA requirements. Standardized Bycatch Reporting Methodology discussions will begin at 2 p.m. focusing on existing Council reporting methodologies including how they were developed and how they operate. In cases where bycatch information is not yet being reported, what actions are underway to adopt such reporting systems. Beginning at 3 p.m. law enforcement issues regarding vessel monitoring systems (including a status update on the VMS program and associated funding) and the role of enforcement in public meetings will be reviewed and discussed. Councils budget status reviews for fiscal year 2007, 2008, and 2009 will begin at 3:30 p.m. and continue until 4:30 p.m.

Thursday, May 25, 2006

The meeting will open at 8:30 a.m. with discussions regarding National Environmental Policy Act (NEPA) [Environmental Impact Statement (EIS) and Environmental Assessment (EA)] and its impact on Council documents, e.g., FMPs, amendments, frameworks, specifications, and grants. Regulatory streamlining will also be addressed regarding the status of cooperative agreements amongst Regional Offices, Science Centers, and Councils, i.e., who “owns” which documents (or parts thereof), and how are they provided to respective units. Atlantic Coast Highly Migratory Species (HMS) management will be discussed at 11 a.m. The focus of this discussion will address how East Coast Councils can improve their contributions concerning Secretarial plans / amendments. Following lunch, an open discussion on any outstanding issues or items, future CCED meetings, and closing comments will begin at 1:30 p.m.

The above agenda items may not be taken in the order in which they appear and are subject to change as necessary. Other items may be added and listed items may be deleted. The meeting may be closed to discuss internal administrative matters.

Special Accommodations

This meeting is physically accessible to people with disabilities. Requests for sign language interpretation or other auxiliary aids should be directed to M. Jan Saunders (302-674-2331 extension 18) at least five days prior to the meeting date.

Dated: May 2, 2006.
Tracey L. Thompson,
Acting Director, Office of Sustainable Fisheries, National Marine Fisheries Service.

[FR Doc. E6-6841 Filed 5-4-06; 8:45 am]

BILLING CODE 3510-22-S